DEPARTMENT OF DEFENSE

Department of the Army

Availability for Non-Exclusive, Exclusive, or Partially Exclusive Licensing of U.S. Patent Concerning Topical Protectants

AGENCY: U.S. Army Medical Research and Materiel Command, DOD.

ACTION: Notice.

SUMMARY: In accordance with 37 CFR 404.6, announcement is made of the availability for licensing of U.S. Patent Serial No. 5,607,979 entitled “Topical Skin Protectants” issued March 4, 1997. This patent application has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both telefax (301) 619-5034.

SUPPLEMENTARY INFORMATION: Creams formed from about 35% to about 50% fine particulates of certain poly (tetrafluoroethylene) resins dispersed in perfluorinated polyether oils having viscosities from about 20 cSt to about 350 cSt afford good protection against chemical warfare agents such as sulfur mustard (HD), lewisite (L), sulfur mustard/Lewisite mixtures (HL), pinacolyl methylphosphonofluroidate (soman or GD), thickened soman (TGD) and O-ethyl S-2-diisopropylaminoethyl methylphosphonothiolate (vx).

Gregory D. Showalter,
Army Federal Register Liaison Officer.

[FR Doc. 01-7261 Filed 3-22-01; 8:45 am]

BILLING CODE 3710-08-M